ENVIRONMENTAL PROTECTION AGENCY

[ER-FRL-8997-5]

Environmental Impacts Statements; Notice of Availability

Responsible Agency: Office of Federal Activities, General Information (202) 564-1399 or http://www.epa.gov/compliance/nepa/.

Weekly receipt of Environmental Impact Statements.

Filed 06/06/2011 Through 06/10/2011.

Pursuant to 40 CFR 1506.9.

Notice

In accordance with Section 309(a) of the Clean Air Act, EPA is required to make its comments on EISs issued by other Federal agencies public. Historically, EPA met this mandate by publishing weekly notices of availability of EPA comments, which includes a brief summary of EPA's comment letters, in the Federal Register. Since February 2008, EPA has included its comment letters on EISs on its Web site at: http://www.epa.gov/compliance/nepa/eisdata.html. Including the entire EIS comment letters on the Web site satisfies the Section 309(a) requirement to make EPA's comments on EISs available to the public. Accordingly, on March 31, 2010, EPA discontinued the publication of the notice of availability of EPA comments in the Federal Register.

EIS No. 20110183, Final EIS, BR, CA, Madera Irrigation District Water Supply Enhancement Project, Constructing and Operating a Water Bank on the Madera Property, Madera County, CA, Review Period Ends: 07/18/2011, Contact: Chuck Siek 559-487-5138.

EIS No. 20110184, Final EIS, FHWA, WA, WA-520, I-5 to Medina Bridge Replacement and HOV Project, To Improve Mobility for People and Goods across Lake Washington, in Seattle, King County, WA, Review Period Ends: 07/18/2011, Contact: Allison Hanson 206-805-2880.

EIS No. 20110186, Draft EIS, NPS, 00, Big South Fork National River and Recreation Area and Obed Wild and Scenic River, Non-Federal Oil and Gas Management Plan, Implementation, KY and TN, Comment Period Ends: 08/15/2011, Contact: Dan Niosi 303-369-2068.

EIS No. 20110187, Draft EIS, NOAA, 00, Comprehensive Annual Catch Limit (ACL) Amendment for the South Atlantic Regions: Amendment 2 to the Fishery Management Plan for the Dolphin Wahoo Fishery; Amendment 2 to the Fishery Management Plan for Pelagic Sargassum Habitat; Amendment 5 to the Fishery Management Plan for the Golden Crab Fishery and Amendment 25 to the Fishery Management Plan for the Snapper Grouper Fishery, South Atlantic Region, Comment Period Ends: 08/01/2011, Contact: Roy E. Crabtree 727-824-5301.

Amended Notices

EIS No. 20110122, Draft EIS, FHWA, UT, Bangerter 600 West Project, Proposes Improvements to Address Projected Transportation Demand and Safety, Salt Lake County, UT, Comment Period Ends: 07/15/2011, Contact: Bryan Dillon 801-955-3517.

This document is available on the Internet at: http://www.udot.utah.gov/bangerter600west/documents.html.

Revision to FR Notice Published 04/22/2011: Extending Comment Period from 06/13/2011 to 07/15/2011

Dated: June 14, 2011.
Cliff Rader,
Acting Director, NEPA Compliance Division, Office of Federal Activities.

[FR Doc. 2011-15103 Filed 6-16-11; 8:45 am]

BILLING CODE 6560-50-P